DEPARTMENT OF COMMERCE

National Oceanic and Atmospheric Administration

50 CFR Part 679

[Docket No. 980212037-8142-02; I.D. 012798A]

RIN 0648-AJ87

Fisheries of the Exclusive Economic Zone Off Alaska; Halibut Donation Program; Correction

AGENCY: National Marine Fisheries Service (NMFS), National Oceanic and Atmospheric Administration (NOAA), Commerce.

ACTION: Final rule; correcting amendments.

SUMMARY: This document contains a correction to the final rule for the Halibut Donation Program that was published in the Federal Register on June 12, 1998.

DATES: Effective October 19, 2001.

FOR FURTHER INFORMATION CONTACT: Patsy A. Bearden, 907-586-7008.

SUPPLEMENTARY INFORMATION: A final rule was published in the Federal Register on 63 FR 32144 (June 12, 1998) to authorize the distribution of Pacific halibut taken as bycatch in the specified groundfish trawl fisheries off Alaska to economically disadvantaged individuals through tax-exempt organizations selected by NMFS to be the authorized distributors.

An error was made by inadvertently omitting a word revision at § 679.26 (b)(1)(vi) from “salmon” to read “fish.”

List of Subjects in 50 CFR Part 679

Alaska, Fisheries, Recordkeeping and reporting requirements.

Accordingly, 50 CFR part 679 is corrected by making the following correcting amendment:

PART 679—FISHERIES OF THE EXCLUSIVE ECONOMIC ZONE OFF ALASKA

1. The authority citation for part 679 continues to read as follows:

Authority: 16 U.S.C. 1801 et seq. and 3631 et seq.

§ 679.26 [Corrected]

2. In § 679.26 (b)(1)(vi), remove the word “salmon” and replace it with the word “fish.”

Dated: October 15, 2001.
John Oliver,
Acting Assistant Administrator for Fisheries, National Marine Fisheries Service.

[FR Doc. 01-26451 Filed 10-18-01; 8:45 am]

BILLING CODE 3510-22-S